CONSUMER PRODUCT SAFETY COMMISSION

16 CFR Ch. II

[Docket No. CPSC-2015-0022]

Petition Requesting Rulemaking on Products Containing Organohalogen Flame Retardants; Notice of Extension of Comment Period; Notice of Opportunity for Oral Presentation of Comments

AGENCY: U.S. Consumer Product Safety Commission.

ACTION: Extension of comment period and notice of opportunity for oral presentation of comments.

SUMMARY: The United States Consumer Product Safety Commission (“Commission” or “CPSC”) on August 19, 2015 published a notice that the Commission received a petition for rulemaking under the Federal Hazardous Substances Act (“FHSA”) regarding additive organohalogen flame retardants. The notice invited the public to submit written comments concerning the petition by October 19, 2015. The Commission has received two requests to extend the comment period. In response to these requests, the Commission is extending the comment period to January 19, 2016. Additionally, the Commission announces that there will be an opportunity for interested persons to present oral comments on the petition.

DATES: The comment period for the proposed rule published August 19, 2015 (80 FR 50238), is extended. Submit comments by January 19, 2016. The meeting for interested persons to present oral comments on the petition will begin at 10 a.m., December 9, 2015, at 4330 East-West Highway, Bethesda, MD 20814. Requests to make oral presentations and the written text of any oral presentations must be received by the Office of the Secretary not later than 5 p.m. Eastern Standard Time (EST) on December 2, 2015.

ADDRESSES: You may submit comments, identified by Docket No. CPSC-2015-0022, by any of the following methods:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written submissions by mail/hand delivery/courier to: Office of the Secretary, Consumer Product Safety Commission, Room 820, 4330 East-West Highway, Bethesda, MD 20814; telephone (301) 504-7923.

Instructions: All submissions received must include the agency name and docket number for this proposed rulemaking. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number, CPSC-2015-0022, into the “Search” box, and follow the prompts. A copy of the petition is available at http://www.regulations.gov under Docket No. CPSC-2015-0022, Supporting and Related Materials.

FOR FURTHER INFORMATION CONTACT: For information about the procedure to make an oral presentation, contact Rockelle Hammond, Office of the Secretary, Consumer Product Safety Commission, 4330 East-West Highway, Bethesda, MD 20814; telephone (301) 504-7923.

SUPPLEMENTARY INFORMATION:

A. Background

On July 1, 2015, the Commission received a petition requesting that the Commission initiate rulemaking under the FHSA to declare several categories of products containing additive organohalogen flame retardants to be “banned hazardous substances.” The petition was filed by Earthjustice and the Consumer Federation of America, which are joined by American Academy of Pediatrics, American Medical Women's Association, Consumers Union, Green Science Policy Institute, International Association of Fire Fighters, Kids in Danger, Philip Landrigan, M.D., M.P.H., League of United Latin American Citizens, Learning Disabilities Association of America, and Worksafe.

B. Extension of Comment Period

On August 19, 2015, the Commission issued a notice that the Commission received the petition, and in the document, invited submission of written comments concerning the petition. 80 FR 50238. The Commission has received two requests to extend the comment period 90 days, due to the breadth and complexity of issues raised in the petition. The Commission has considered the requests and is extending the comment period until January 19, 2016.

C. Opportunity for Oral Presentation of Comments

The Commission is providing a forum for oral presentations concerning the petition regarding additive organohalogen flame retardants. See the information under the headings DATES and ADDRESSES at the beginning of this document for information on making requests to give oral presentations at the meeting.

Participants should limit their presentations to approximately 10 minutes, exclusive of any periods of questioning by the Commissioners or CPSC staff. To prevent duplicative presentations, groups will be directed to designate a spokesperson. The Commission reserves the right to limit the time further for any presentation and impose restrictions to avoid excessive duplication of presentations.

Dated: October 15, 2015.
Todd A. Stevenson,
Secretary, U.S. Consumer Product Safety Commission.

[FR Doc. 2015-26694 Filed 10-23-15; 8:45 am]

BILLING CODE 6355-01-P